INTERNATIONAL TRADE COMMISSION

[Investigation No. 731-TA-919 (Fourth Review)]

Certain Welded Large Diameter Line Pipe from Japan

Determination

On the basis of the record ¹ developed in the subject five-year review, the United States International Trade Commission (“Commission”) determines, pursuant to the Tariff Act of 1930 (“the Act”), that revocation of the antidumping duty order on Certain Welded Large Diameter Line Pipe from Japan would be likely to lead to continuation or recurrence of material injury to an industry in the United States within a reasonably foreseeable time.

¹ The record is defined in § 207.2(f) of the Commission's Rules of Practice and Procedure (19 CFR 207.2(f)).

Background

The Commission instituted this review on September 3, 2024 (89 FR 71417) and determined on December 9, 2024, that it would conduct a full review (90 FR 6010, January 17, 2025). Notice of the scheduling of the Commission's review and of a public hearing to be held in connection therewith was given by posting copies of the notice in the Office of the Secretary, U.S. International Trade Commission, Washington, DC, and by publishing the notice in the Federal Register on March 13 (90 FR 11995).² The Commission conducted its hearing on September 11, 2025. All persons who requested the opportunity were permitted to participate.

² Due to the lapse in appropriations and ensuing cessation of Commission operations, the Commission tolled its schedule for this proceeding. The schedule was revised in a subsequent notice published in the Federal Register on November 21, 2025 (90 FR 52696).

The Commission made this determination pursuant to section 751(c) of the Act (19 U.S.C. 1675(c)). It completed and filed its determination in this review on December 19, 2025. The views of the Commission are contained in USITC Publication 5689 (December 2025), entitled Certain Welded Large Diameter Line Pipe from Japan: Investigation No. 731-TA-919 (Fourth Review): Certain Welded Large Diameter Line Pipe from Japan.

By order of the Commission.
Issued: December 19, 2025.
Lisa Barton,
Secretary to the Commission.

[FR Doc. 2025-23803 Filed 12-23-25; 8:45 am]

BILLING CODE 7020-02-P